DEPARTMENT OF HEALTH AND HUMAN SERVICES

National Preparedness and Response Science Board (Previously Known as the “National Biodefense Science Board”) Call for Nominees

AGENCY: Office of the Secretary, Department of Health and Human Services.

ACTION: Notice.

SUMMARY: The Office of the Secretary is accepting application submissions from qualified individuals who wish to be considered for membership on the National Preparedness and Response Science Board (NPRSB), previously known as the National Biodefense Science Board; seven members have membership expiration dates of December 31, 2014; therefore, seven new voting members will be selected for the Board. Nominees are being accepted in the following categories: Industry, academia, practicing healthcare, pediatrics, and organizations representing other appropriate stakeholders. Please visit the NPRSB Web site at www.phe.gov/nprsb for all application submission information and instructions. All members of the public are encouraged to apply.

DATES: The deadline for all application submissions is June 15, 2014, at 11:59 p.m.

FOR FURTHER INFORMATION CONTACT: Please submit any inquiries to CAPT Charlotte Spires, DVM, MPH, DACVPM, Executive Director and Designated Federal Official, National Preparedness and Response Science Board, Office of the Assistant Secretary for Preparedness and Response, U.S. Department of Health and Human Services, Thomas P. O'Neill Federal Building, Room number 14F18, 200 C St. SW., Washington, DC 20024; Office: 202-260-0627, Email address: charlotte.spires@hhs.gov.

SUPPLEMENTARY INFORMATION: The NPRSB is authorized under Section 319M of the Public Health Service (PHS) Act (42 U.S.C. 247d-7f) as added by Section 402 of the Pandemic and All-Hazards Preparedness Act (PAHPA) of 2006 and amended by Section 404 of the Pandemic and All Hazards Preparedness Reauthorization Act and Section 222 of the PHS Act (42 U.S.C. 217a). The Board provides expert advice and guidance to the Secretary on scientific, technical, and other matters of special interest to the Department of Health and Human Services regarding current and future chemical, biological, nuclear, and radiological agents, whether naturally occurring, accidental, or deliberate. The Board also provides advice and guidance to the Secretary and/or the Assistant Secretary for Preparedness and Response (ASPR) on other matters related to public health emergency preparedness and response.

Description of Duties: The Board shall advise the Secretary and/or ASPR on current and future trends, challenges, and opportunities presented by advances in biological and life sciences, biotechnology, and genetic engineering with respect to threats posed by naturally occurring infectious diseases and chemical, biological, radiological, and nuclear agents. At the request of the Secretary and/or ASPR, the Board shall review and consider any information and findings received from the working groups established under 42 U.S.C. 247d-7f(b). At the request of the Secretary and/or ASPR, the Board shall provide recommendations and findings for expanded, intensified, and coordinated biodefense research and development activities. The Board shall also provide any recommendation, finding, or report provided to the Secretary on these matters to the appropriate committees of Congress. Additional advisory duties concerning public health emergency preparedness and response may be assigned at the discretion of the Secretary and/or ASPR.

Structure: The Board shall consist of 13 voting members, including the Chairperson; additionally, there may be non-voting ex officio members. Pursuant to 42 U.S.C. 247d-7f(a), members and the Chairperson shall be appointed by the Secretary from among the nation's preeminent scientific, public health, and medical experts as follows: (a) Such federal officials as the Secretary determines are necessary to support the functions of the Board; (b) four individuals from the pharmaceutical, biotechnology, and device industries; (c) four individuals representing academia; and (d) five other members as determined appropriate by the Secretary, one of whom must be a practicing health care professional; one of whom shall be an individual from an organization representing health care consumers; one of whom shall be an individual with pediatric subject matter expertise; and one of whom shall be a state, tribal, territorial, or local public health official. Nothing in the membership requirements shall preclude a member of the Board from satisfying two or more of these requirements described in item (d). A member of the Board described in (b), (c), and (d) shall serve for a term of three years, and may serve not more than two consecutive terms.

Members who are not full-time or permanent part-time federal employees shall be appointed by the Secretary as Special Government Employees.

Dated: May 8, 2014.
Nicole Lurie,
Assistant Secretary for Preparedness and Response.

[FR Doc. 2014-11310 Filed 5-15-14; 8:45 am]

BILLING CODE P